DEPARTMENT OF COMMERCE

International Trade Administration

[A-580-812]

Dynamic Random Access Memory Semiconductors of One Megabit or Above From the Republic of Korea: Notice of Court Decision and Suspension of Liquidation

AGENCY: Import Administration, International Trade Administration, Department of Commerce.

ACTION: Notice of court decision and suspension of liquidation.

SUMMARY: On August 18, 2003, the United States Court of International Trade (CIT) issued a decision invalidating certain sets of liquidation instructions issued by the Department of Commerce (the Department) in the antidumping proceeding covering entries of dynamic random access memory semiconductors of one megabit or above (DRAMs) from the Republic of Korea. See Nissei Sangyo America, Ltd., v. United States, Slip Op. 03-105 (August 18, 2003), Court No. 00-00113 (NSA); Renesas Technology America, Inc., v. United States, Slip Op. 03-106 (August 18, 2003), Court No. 00-00114 (Renesas). On September 15, 2003, the Defendant-Intervenor, Micron Technology, Inc. (Micron), in NSA and Renesas filed a motion for reconsideration with the Court. On May 3, 2004, the motion for reconsideration was denied. On July 1, 2004, a motion of appeal was filed by the Department with the United States Court of Appeals for the Federal Circuit (CAFC). Consistent with the decision of the CAFC in Timken Co. v. United States, 893 F.2d 337 (Fed. Cir. 1990) (Timken), the Department is notifying the public that the NSA and Renesas decisions were “not in harmony” with the Department's liquidation instructions.

DATES: Effective July 19, 2004.

FOR FURTHER INFORMATION CONTACT: Ron Trentham or Tom Futtner, AD/CVD Enforcement, Office 4, Import Administration, International Trade Administration, U.S. Department of Commerce, 14th Street and Constitution Avenue, NW., Washington, DC 20230; telephone: (202) 482-6320 or (202) 482-3814, respectively.

SUPPLEMENTARY INFORMATION:

Background

On May 6, 1996, the Department published the final results of administrative review of entries of DRAMs manufactured by LG Semicon Co., Ltd. (LG), formerly Goldstar Electron Co., Ltd., and Hyundai Electronics Co., Ltd. (Hyundai), that were imported into the United States from October 29, 1992, through April 30, 1994 (POR 1). The Department determined that the dumping margin for sales made by LG during the period of review (POR) was 0.00 percent. See Dynamic Random Access Memory Semiconductors of One Megabit or Above from the Republic of Korea, Final Results of Antidumping Duty Administrative Review, 61 FR 20216 (May 6, 1996).

On January 7, 1997, the Department published the final results of administrative review of entries of DRAMs manufactured by LG and Hyundai that were imported into the United States from May 1, 1994, through April 30, 1995 (POR 2). The Department determined that the dumping margin for sales made by LG during the POR was 0.01 percent. See Dynamic Random Access Memory Semiconductors of One Megabit or Above from the Republic of Korea, Final Results of Antidumping Duty Administrative Review, 62 FR 965 (January 7, 1997).

Subsequently, Micron filed an action in opposition to dumping margins calculated in POR 1 and POR 2 for LG. The CIT and the CAFC sustained the results of the first and second administrative reviews for LG. See Micron Technology v. United States, 23 CIT 55, 44 F. Supp. 2d 216 (1999); Micron Technology v. United States, 23 CIT 208, 40 F. Supp.2d 481 (1999), collectively the Micron cases.

At the conclusion of the Micron cases, the Department instructed U.S. Customs and Border Protection (CBP) to assess antidumping duties on NSA's and Renesas's imports of LG DRAMs during POR 1 and POR 2 at the cash deposit rate imposed upon entry rather than the rates determined for the manufacturer in POR 1 and POR 2.

NSA and Renesas filed a complaint with the CIT challenging the Department's liquidation instructions to CBP concerning entries produced and exported by LG and imported by NSA and Renesas during POR 1 and POR 2. On August 18, 2003, the CIT remanded these cases ordering the Department to rescind the liquidation instructions and issue new instructions instructing CBP to liquidate or re-liquidate NSA's and Renesas's entries at the antidumping rates covering LG for POR 1 and POR 2.

As noted above, on September 15, 2003, Micron filed a motion for reconsideration with the Court and on May 3, 2004, the motion for reconsideration was denied. On July 1, 2004, a motion of appeal was filed by the Department with the CAFC.

Timken Notice

In its decision in Timken, the CAFC held that pursuant to 516a(c)(1) and(e) of the Tariff Act of 1930, as amended, the Department must publish notice of a decision of the CIT which is not in harmony with the Department's determination. The CIT's decision in NSA and Renesas were not in harmony with the Department's liquidation instructions. Therefore, publication of this notice fulfills the statutory obligation.

Suspension of Liquidation

This notice will serve to continue the suspension of liquidation pending a final decision by the CAFC. Because the CIT issued an injunction on March 20, 2000, for NSA and on April 11, 2000, for Renesas, the Department will continue to suspend liquidation of entries of DRAMs from the Republic of Korea that (1) were produced and exported by LG, and imported by NSA and Renesas; (2) were entered or withdrawn from warehouse, for consumption, from October 29, 1992, through April 30, 1995. The Department will issue liquidation instructions covering these entries if the CIT's decision is affirmed on appeal.

Dated: July 12, 2004.
Jeffrey A. May,
Deputy Assistant Secretary for Import Administration, Group I.

[FR Doc. 04-16243 Filed 7-16-04; 8:45 am]

BILLING CODE 3510-DS-P